NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by September 20, 2021. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, at the above address, 703-292-7420, or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2019-001) to Ron Naveen, Oceanites Inc., on August 7, 2018. The issued permit allows the permit holder and agents to engage in take and harmful interference, as well as to enter Antarctic Specially Protected Areas (ASPAs), to continue data collections activities conducted to support the Antarctic Site Inventory. Visitor site surveys may include censusing penguin and seabird colonies throughout the Antarctic Peninsula. There is the potential for slight disturbance of the birds during surveying and censusing. This permit addresses the potential for infrequent, minimal take or harmful interference of the several penguin and other seabird species. While conducting visitor site surveys and censuses, the permit holder and agents may enter a number of ASPAs in the Antarctic Peninsula region.

A recent modification to this permit, dated November 20, 2019, permitted the applicant to collect samples from adult gentoo penguins (Pygoselis papua) for genetic analysis in order to study range expansion, colonization of new areas, and gene flow.

Now the applicant proposes a modification to his permit to include use of unoccupied aerial systems (UAS) to enable more efficient monitoring of penguin breeding colonies and to improve penguin censusing capabilities in the Antarctic Peninsula region. The applicant has included a detailed list of mitigation measures to limit disturbance to wild populations throughout operations. The applicant also seeks to include opportunistic guano sampling under the existing permit to assist in analysis of penguin diet. Guano samples will be collected during planned operations within penguin colonies and the disturbance to wildlife is expected to be minimal.

Location: Western Antarctic Peninsula.

Dates: September 1, 2018-August 31, 2023.

Erika N. Davis,
Program Specialist, Office of Polar Programs.

[FR Doc. 2021-17825 Filed 8-19-21; 8:45 am]

BILLING CODE 7555-01-P